DEPARTMENT OF AGRICULTURE

Submission for OMB Review; Comment Request

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by September 9, 2021 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Animal and Plant Health Inspection Service

Title: Communicable Diseases in Horses.

OMB Control Number: 0579-0127.

Summary of Collection: The Animal Health Protection Act (AHPA) of 2002 is the primary Federal law governing the protection of animal health. The law gives the Secretary of Agriculture broad authority to detect, control, or eradicate pests or diseases of livestock or poultry. The Secretary may also prohibit or restrict import or export of any animal or related material if necessary, to prevent the spread of any livestock or poultry pest or disease. The AHPA is contained in Title X, Subtitle E, Sections 10401-18 of Public Law 107-171, May 13, 2002, the Farm Security and Rural Investment Act of 2002.

Veterinary Services (VS), a program within USDA's Animal and Plant Health Inspection Service (APHIS), is responsible for administering regulations intended to ensure that animals affected with EIA are identified through proficient and reliable testing and that appropriate reporting occurs. Further, regulations ensure animals testing positive are moved interstate in a way that does not endanger the health of the U.S. equine population. APHIS regulations at title 9, Code of Federal Regulations (9 CFR) 75.4 deal specifically with regulating the interstate movement of horses affected with equine infectious anemia (EIA). VS provides guidance on approval of laboratories, diagnostic facilities, and research facilities. Ensuring the safe movement of these horses requires the use of information collection activities, including an EIA laboratory test form, a certificate or permit for the interstate movement of an EIA reactor, a supplemental investigation form if a horse tests positive for EIA, agreements, request for hearing, and written notification of withdrawal of approval.

Need and Use of the Information: The information collected from forms, APHIS VS 10-11, Equine Infectious Anemia Laboratory Test; VS 10-12, Equine Infectious Anemia Supplemental Investigation; and VS 1-27, Permit for the Movement of Restricted Animals, VS-10-15, Agreement to Conduct Equine Infectious Anemia Testing, VS-10-16, Laboratory Inspection Checklist for Equine Infectious Anemia Testing, will be used to prevent the spread of equine infectious anemia. Regulations also require the use an Agreement for Approved Livestock Facilities, Request for Hearing, Written Notification of Approval or Withdrawal, Review of Requirements and Interview, Memorandum of Recommendation and Justification, Monthly Summary Reporting, Denial or Withdrawal of Laboratory Approval. Without the information it would be impossible for APHIS to effectively regulate the interstate movement of horses infected with EIA.

Description of Respondents: Farms; Business or other for-profit; State, Local and Tribal Government.

Number of Respondents: 235,018.

Frequency of Responses: Reporting: On occasion.

Total Burden Hours: 92,610.

Animal and Plant Health Inspection Service

Title: Importation of Gypsy Moth Host Materials from Canada.

OMB Control Number: 0579-0142.

Summary of Collection: The United States Department of Agriculture (USDA) is responsible for preventing plant diseases or insect pests from entering the United States, preventing the spread of pests not widely distributed in the United States, and eradicating those imported pests when eradication is feasible. Under the Plant Protection Act (7 U.S.C. 7701- et seq.), the Secretary of Agriculture is authorized to regulate the importation of plants, plant products, and other articles to prevent the introduction of injurious plant pests. The regulations implementing this Act are contained in Title 7 of the Code of Federal Regulations (CFR), Part 319 (Foreign Quarantine Notices). The Plant Protection and Quarantine, a program within USDA's Animal and Plant Health Inspection Service (APHIS) is responsible for ensuring that these regulations are enforced.

Need and Use of the Information: APHIS will collect information from individuals both within and outside the United States using phytosanitary certificates, certificates of origin, a written statement, a compliance agreement and an emergency Action notice. Information collected will ensure that importing foreign logs, trees, shrubs, and other articles do not harbor plant or insect pests such as the gypsy moth. Failing to collect this information would cripple APHIS' ability to ensure that trees (including Christmas trees), shrubs, logs, and a variety of other items imported from Canada do not harbor gypsy moths.

Description of Respondents: Business or other for-profit; Individuals or households; Federal Government.

Number of Respondents: 3,201.

Frequency of Responses: Reporting: On occasion.

Total Burden Hours: 4,358.

Animal and Plant Health Inspection Service

Title: Control of Chronic Wasting Disease.

OMB Control Number: 0579-0189.

Summary of Collection: The Animal Health Protection Act (AHPA) of 2002 is the primary Federal law governing the protection of animal health. The law gives the Secretary of Agriculture broad authority to detect, control, and eradicate pests or diseases of livestock or poultry, and to pay claims arising from destruction of animals. Disease prevention is the most effective method for maintaining a healthy animal population and enhancing the Animal and Plant Health Inspection Service (APHIS) ability to complete in exporting animals and animal products. Chronic wasting disease (CWD) is a transmissible spongiform encephalopathy (TSE) of elk, deer and moose typified by chronic weight loss leading to death. The presence of CWD disease in cervids causes significant economic and market losses to U.S. producers. To accelerate the control and limit the spread of this disease in the United States, APHIS created a cooperative, voluntary Federal-State-private sector CWD Herd Certification Program. The program is designed to identify farmed or captive herds infected with CWD and provided for the management of these herds in a way that reduces the risk of spreading CWD.

Need and Use of the Information: APHIS will collect information from owners of elk, deer, and moose herds who choose to participate in the CWD Herd Certification program. They would need to follow program requirements for animal identification, testing, herd management, and movement of animals into and from herds. APHIS also established requirements for the interstate movement of cervids to prevent movement of elk, deer, and moose that pose a risk of spreading CWD. Carrying out this program will entail the use of several information collection activities and three APHIS forms. Failing to collect it would make it impossible for APHIS to maintain its CWD Herd Certification Program, thereby hindering APHIS' ability to prevent and control the spread of CWD in the United States.

Description of Respondents: Business or other for-profit and not-for-profit; State, Local or Tribal Government.

Number of Respondents: 9,053.

Frequency of Responses: Reporting and Recordkeeping: On occasion.

Total Burden Hours: 322,546.

Animal and Plant Health Inspection Service

Title: Infectious Salmon Anemia (ISA)—Payment of Indemnity.

OMB Control Number: 0579-0192.

Summary of Collection: The Animal Health Protection Act (AHPA) of 2002 is the primary Federal law governing the protection of animal health. The law gives the Secretary of Agriculture broad authority to detect, control, or eradicate pest or diseases of livestock or poultry. Infectious Salmon Anemia (ISA) is a clinical disease resulting from infection with the ISA virus and poses a substantial threat to the economic viability and sustainability of salmon aquaculture in the United States and abroad. This indemnity program entails the use of several information collection activities, including completing a program enrollment form as well as an appraisal and indemnity claim form; developing biosecurity protocols; conducting biosecurity audits; developing site-specific ISA action plans; compiling fish inventories and mortality reports (and recordkeeping); and disease surveillance to control ISA. Program participants, who may include certain aquaculture industry business owners, managers, site employees, and accredited veterinarians, and designated laboratories, must also assist APHIS with certain disease surveillance activities. Without the information it would be impossible for APHIS to contain and prevent ISA outbreaks in the United States.

Need and Use of the Information: APHIS uses a form to enroll aquaculture industry businesses, three others to reimburse them for disease losses, and other information activities to document or conduct biosecurity, protocols, and audits; develop site-specific ISA action plans; compile fish inventories and mortality reports (and keep records of the inventories and reports); and conduct disease surveillance.

Description of Respondents: Business or other for-profit.

Number of Respondents: 13.

Frequency of Responses: Recordkeeping; Reporting: On occasion.

Total Burden Hours: 549.

Dated: August 5, 2021.
Ruth Brown,
Departmental Information Collection Clearance Officer.

[FR Doc. 2021-17020 Filed 8-9-21; 8:45 am]

BILLING CODE 3410-34-P